DEPARTMENT OF THE INTERIOR

National Park Service

[NPS-WASO-NAGPRA-NPS0032962; PPWOCRADN0-PCU00RP14.R50000]

Notice of Inventory Completion: Fort Lewis College, Durango, CO

AGENCY: National Park Service, Interior.

ACTION: Notice.

SUMMARY: Fort Lewis College has completed an inventory of human remains and associated funerary objects in consultation with the appropriate Indian Tribes or Native Hawaiian organizations and has determined that there is no cultural affiliation between the human remains and associated funerary objects and any present-day Indian Tribes or Native Hawaiian organizations. Representatives of any Indian Tribe or Native Hawaiian organization not identified in this notice that wish to request transfer of control of these human remains and associated funerary objects should submit a written request to the Office of the President, Fort Lewis College. If no additional requestors come forward, transfer of control of the human remains and associated funerary objects to the Indian Tribes, or Native Hawaiian organizations stated in this notice may proceed.

DATES: Representatives of any Indian Tribe or Native Hawaiian organization not identified in this notice that wish to request transfer of control of these human remains and associated funerary objects should submit a written request with information in support of the request to the Office of the President, Fort Lewis College at the address in this notice by December 8, 2021.

FOR FURTHER INFORMATION CONTACT: Kathleen Fine-Dare, NAGPRA Liaison, Office of the President, Fort Lewis College, 1000 Rim Drive, Durango, CO 81301, telephone (970) 247-7438, email fine_k@fortlewis.edu.

SUPPLEMENTARY INFORMATION: Notice is here given in accordance with the Native American Graves Protection and Repatriation Act (NAGPRA), 25 U.S.C. 3003, of the completion of an inventory of human remains and associated funerary objects under the control of Fort Lewis College, Durango, CO. The human remains and associated funerary objects were removed from unknown locations, most likely in the American Southwest.

This notice is published as part of the National Park Service's administrative responsibilities under NAGPRA, 25 U.S.C. 3003(d)(3) and 43 CFR 10.9(e). The determinations in this notice are the sole responsibility of the museum, institution, or Federal agency that has control of the Native American human remains and associated funerary objects. The National Park Service is not responsible for the determinations in this notice.

Consultation

A detailed assessment of the human remains and associated funerary objects was made by Fort Lewis professional staff in consultation with representatives of the Hopi Tribe of Arizona; Jicarilla Apache Nation, New Mexico; Navajo Nation, Arizona, New Mexico, & Utah; Ohkay Owingeh, New Mexico [previously listed as Pueblo of San Juan]; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo [previously listed as Kewa Pueblo, New Mexico and as Pueblo of Santo Domingo]; Southern Ute Indian Tribe of the Southern Ute Reservation, Colorado; Ute Indian Tribe of the Uintah & Ouray Reservation, Utah; Ute Mountain Ute Tribe [previously listed as Ute Mountain Tribe of the Ute Mountain Reservation, Colorado, New Mexico & Utah]; Ysleta del Sur Pueblo [previously listed as Ysleta Del Sur Pueblo of Texas]; and the Zuni Tribe of the Zuni Reservation, New Mexico.

The Apache Tribe of Oklahoma; Assiniboine and Sioux Tribes of the Fort Peck Indian Reservation, Montana; Cheyenne and Arapaho Tribes, Oklahoma [previously listed as Cheyenne-Arapaho Tribes of Oklahoma]; Cheyenne River Sioux Tribe of the Cheyenne River Reservation, South Dakota; Comanche Nation, Oklahoma; Crow Creek Sioux Tribe of the Crow Creek Reservation, South Dakota; Crow Tribe of Montana; Eastern Shoshone Tribe of the Wind River Reservation, Wyoming [previously listed as Shoshone Tribe of the Wind River Reservation, Wyoming]; Fort Sill Apache Tribe of Oklahoma; Kiowa Indian Tribe of Oklahoma; Mescalero Apache Tribe of the Mescalero Reservation, New Mexico; Northern Arapaho Tribe of the Wind River Reservation, Wyoming [previously listed as Arapaho Tribe of the Wind River Reservation, Wyoming]; Northern Cheyenne Tribe of the Northern Cheyenne Indian Reservation, Montana; Oglala Sioux Tribe [previously listed as Oglala Sioux Tribe of the Pine Ridge Reservation, South Dakota]; Paiute Indian Tribe of Utah (Cedar Band of Paiutes, Kanosh Band of Paiutes, Koosharem Band of Paiutes, Indian Peaks Band of Paiutes, and Shivwits Indian Tribe of Utah [previously listed as Paiute Indian Tribe of Utah (Cedar City Band of Paiutes, Kanosh Band of Paiutes, Koosharem Band of Paiutes, Indian Peaks Band of Paiutes, and Shivwits Band of Paiutes)]; Pawnee Nation of Oklahoma; Rosebud Sioux Tribe of the Rosebud Indian Reservation, South Dakota; San Juan Southern Paiute Tribe of Arizona; Shoshone-Bannock Tribes of the Fort Hall Reservation; Standing Rock Sioux Tribe of North & South Dakota; The Osage Nation [previously listed as Osage Tribe]; Three Affiliated Tribes of the Fort Berthold Reservation, North Dakota; and the Wichita and Affiliated Tribes (Wichita, Keechi, Waco, & Tawakonie), Oklahoma were invited to consult but did not participate.

Hereafter, all Indian Tribes listed in this section are referred to as “The Consulted and Notified Tribes.”

History and Description of the Remains

Fort Lewis College is a four-year public liberal arts college located in Durango, CO. Since the 1970s, the Department of Anthropology's archeological field school has focused on sites in the southwestern United States. At times, it has also come into possession of Native American human remains and objects through undocumented donations. While the human remains of the 40 individuals described below have no documented provenience, they have been housed in Colorado for the last 30 to 89 years.

At an unknown date, human remains representing, at minimum, 26 individuals (FLC #s 501/621, 600A-B, 601-602, 606, 608, 612, 614A-B, 615, 617A-B, 619-620, 624-625, 628-633, 1000A-B, and 1006) were removed from unknown locations. On FLC #600B was written in black ink: “UNK W45 S25.” Exhaustive searches through college records have revealed no clues regarding the meaning of W45 S25. When the human remains came into the possession of Fort Lewis College is unknown. No known individuals were identified. No associated funerary objects are present.

At an unknown date, human remains representing, at minimum, one individual (FLC #604) were removed from an unknown location. These human remains were in a collection belonging to amateur archeologist Zeke Flora. The human remains came into the possession of Fort Lewis College in 1989. No known individuals were identified. No funerary objects are present.

At an unknown date, human remains representing, at minimum, one individual (FLC #626) were removed from an unknown location. Unknown persons left these human remains at the Fort Lewis College Biology Department in September 1989. No known individuals were identified. No funerary objects are present.

At an unknown date, human remains representing, at minimum, one individual (FLC #1004) were removed from an unknown location. A note associated with these human remains (two mandibular molars) indicates that they are from the “Kroger Collection.” When the human remains came into the possession of Fort Lewis College is unknown. No known individuals were identified. No associated funerary objects are present.

At an unknown date, human remains representing, at minimum, two individuals (FLC #605A, #605B) were removed from an unknown location. The human remains came into the possession of Fort Lewis College in 1987. No known individuals were identified. The 22 associated funerary objects are 21 sherds of greyware pottery and one piece of charcoal.

At an unknown date, human remains representing, at minimum, one individual (FLC #613) were removed from an unknown location. When the human remains came into the possession of Fort Lewis College is unknown. No known individuals were identified. The 17 associated funerary objects are greyware pottery sherds.

At an unknown date, human remains representing, at minimum, seven individuals (FLC #623A, #623B, #623C, #623D, #623D, #623E, #623F, and #623G) were removed from an unknown location. When the human remains came into the possession of Fort Lewis College is unknown. No known individuals were identified. The two associated funerary objects are one greyware pottery sherd and one lithic flake.

At an unknown date, human remains representing, at minimum, one individual (FLC #910) were removed from an unknown location. When the human remains came into the possession of Fort Lewis College is unknown. No known individuals were identified. The 10 associated funerary objects are three ladle handle fragments, one white painted sherd, one red painted sherd, four lithic flakes, and one fragment of petrified wood or stone.

Based on the available information, the land from which these human remains and associated funerary objects were removed is not the “tribal land” of an Indian Tribe or a Native Hawaiian organization, or the “aboriginal land” of an Indian Tribe pursuant to 43 CFR 10.11.

Pursuant to 25 U.S.C. 3006(c)(5) and 43 CFR 10.10(g)(2)(ii) and 10.16, the Native American Graves Protection and Repatriation Review Committee (Review Committee) may make a recommendation to the Secretary of the Interior (Secretary) for specific actions for disposition of any human remains and associated funerary objects not already addressed in 43 CFR 10.11. In April 2021, Fort Lewis College requested that the Review Committee consider a proposal to transfer control of the human remains and associated funerary objects described in this notice jointly to the Southern Ute Indian Tribe of the Southern Ute Reservation, Colorado and the Ute Mountain Ute Tribe [previously listed as Ute Mountain Tribe of the Ute Mountain Reservation, Colorado, New Mexico, & Utah]. The Review Committee carefully considered this request at its July 7, 2021 meeting and recommended to the Secretary that the proposed transfer of control proceed. An October 19, 2021 letter transmitted the Secretary's independent review and concurrence with the Review Committee that:

• Fort Lewis College consulted with every appropriate Indian Tribe,

• None of the The Consulted and Notified Tribes objected to the proposed transfer of control to the Southern Ute Indian Tribe of the Southern Ute Reservation, Colorado and the Ute Mountain Ute Tribe [previously listed as Ute Mountain Tribe of the Ute Mountain Reservation, Colorado, New Mexico, & Utah], and

• Fort Lewis College may proceed with the agreed-upon transfer of control of the human remains and associated funerary objects to the Southern Ute Indian Tribe of the Southern Ute Reservation, Colorado and the Ute Mountain Ute Tribe [previously listed as Ute Mountain Tribe of the Ute Mountain Reservation, Colorado, New Mexico, & Utah].

Transfer of control is contingent on the publication of a Notice of Inventory Completion in the Federal Register. This notice fulfills that requirement.

Determinations Made by Fort Lewis College

Officials of Fort Lewis College have determined that:

• Pursuant to 25 U.S.C. 3001(9), the human remains described in this notice are Native American based on the broader collecting practices of Fort Lewis College and the findings of physical anthropologists employed by Fort Lewis College.

• Pursuant to 25 U.S.C. 3003(e), the human remains described in this notice represent the physical remains of 40 individuals of Native American ancestry.

• Pursuant to 25 U.S.C. 3001(3)(A), the 51 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 43 CFR 10.11, the land from which these human remains and associated funerary objects were removed is not the “tribal land” of any Indian Tribe or Native Hawaiian organization, or the “aboriginal land of any Indian Tribe.

• Pursuant to 43 CFR 10.10(g)(2)(ii) and 10.16, the disposition of the human remains and associated funerary objects will be to the Southern Ute Indian Tribe of the Southern Ute Reservation, Colorado and the Ute Mountain Ute Tribe [previously listed as Ute Mountain Tribe of the Ute Mountain Reservation, Colorado, New Mexico, & Utah].

Additional Requestors and Disposition

Representatives of any Indian Tribe or Native Hawaiian organization not identified in this notice that wish to request transfer of control of these human remains and associated funerary objects should submit a written request with information in support of the request to Kathleen Fine-Dare, NAGPRA Liaison, Office of the President, Fort Lewis College, 1000 Rim Drive, Durango, CO 81301, telephone (970) 247-7438, email fine_k@fortlewis.edu, by December 8, 2021. After that date, if no additional requestors have come forward, transfer of control of the human remains and associated funerary objects to the Southern Ute Indian Tribe of the Southern Ute Reservation, Colorado, and the Ute Mountain Ute Tribe [previously listed as Ute Mountain Tribe of the Ute Mountain Reservation, Colorado, New Mexico, & Utah] may proceed.

Fort Lewis College is responsible for notifying The Consulted and Notified Tribes that this notice has been published.

Dated: October 29, 2021.
Melanie O'Brien,
Manager, National NAGPRA Program.

[FR Doc. 2021-24308 Filed 11-5-21; 8:45 am]

BILLING CODE 4312-52-P